DEPARTMENT OF ENERGY

Federal Energy Regulatory Commission

Combined Notice of Filings

Take notice that the Commission has received the following Natural Gas Pipeline Rate and Refund Report filings:

Filings Instituting Proceedings

Docket Number: PR17-18-000.

Applicants: Acacia Natural Gas, L.L.C.

Description: Tariff filing per 284.123(b)(2)+(g): Amended SOC 1-18-2017 to be effective 1/18/2017; Filing Type: 1310.

Filed Date: 1/18/17.

Accession Number: 201701185120.

Comments Due: 5 p.m. ET 2/8/17.

284.123(g) Protests Due: 5 p.m. ET 3/20/17.

Docket Number: PR17-19-000.

Applicants: American Midstream (Bamagas Intrastate), LLC.

Description: Tariff filing per 284.224/.123: Application for Blanket Certificate of Public Convenience and Necessity to be effective 4/1/2017; Filing Type: 1340.

Filed Date: 1/18/17.

Accession Number: 201701185167.

Comments/Protests Due: 5 p.m. ET 2/8/17.

Docket Numbers: RP17-339-000.

Applicants: Millennium Pipeline Company, LLC.

Description: Penalty Revenue Crediting Report of Millennium Pipeline Company, L.L.C.

Filed Date: 1/17/17.

Accession Number: 20170117-5324.

Comments Due: 5 p.m. ET 1/30/17.

Docket Numbers: RP17-340-000.

Applicants: Guardian Pipeline, L.L.C.

Description: § 4(d) Rate Filing: Expiration of Negotiated Rate Agreement—MIECO INC. to be effective 1/18/2017.

Filed Date: 1/18/17.

Accession Number: 20170118-5115.

Comments Due: 5 p.m. ET 1/30/17.

Docket Numbers: RP17-341-000.

Applicants: Big Sandy Pipeline, LLC.

Description: § 4(d) Rate Filing: Jan2017 Big Sandy Cleanup Filing to be effective 2/19/2017.

Filed Date: 1/19/17.

Accession Number: 20170119-5035.

Comments Due: 5 p.m. ET 1/31/17.

Docket Numbers: RP17-342-000.

Applicants: Algonquin Gas Transmission, LLC.

Description: § 4(d) Rate Filing: Jan2017 Removal of Terminated Non-conforming Agreements to be effective 2/19/2017.

Filed Date: 1/19/17.

Accession Number: 20170119-5055.

Comments Due: 5 p.m. ET 1/31/17.

Docket Numbers: RP17-343-000.

Applicants: Dominion Carolina Gas Transmission, LLC.

Description: Compliance filing DCGT—2016 Interruptible Revenue Sharing Report.

Filed Date: 1/23/17.

Accession Number: 20170123-5000.

Comments Due: 5 p.m. ET 2/6/17.

Docket Numbers: RP17-344-000.

Applicants: Guardian Pipeline, L.L.C.

Description: § 4(d) Rate Filing: Update Statement of Negotiated Rates—January 2017 to be effective 2/10/2017.

Filed Date: 1/23/17.

Accession Number: 20170123-5001.

Comments Due: 5 p.m. ET 2/6/17.

Docket Numbers: RP17-345-000.

Applicants: Destin Pipeline Company, L.L.C.

Description: Request for Temporary Waiver to Implement Certain NAESB Standards required by Order Nos. 587-W (NAESB Version 3.0) and 809 of Destin Pipeline Company, L.L.C.

Filed Date: 1/19/17.

Accession Number: 20170119-5207.

Comments Due: 5 p.m. ET 1/31/17.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP15-1022-011.

Applicants: Alliance Pipeline L.P.

Description: Revised Stipulation and Agreement [including Pro Forma sheets] of Alliance Pipeline L.P.

Filed Date: 1/17/17.

Accession Number: 20170117-5339.

Comments Due: 5 p.m. ET 2/6/17.

Reply Comments Due: 5 p.m. ET 2/16/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated January 23, 2017.
Nathaniel J. Davis, Sr.,
Deputy Secretary.

[FR Doc. 2017-01917 Filed 1-27-17; 8:45 am]

BILLING CODE 6717-01-P